DEPARTMENT OF HEALTH AND HUMAN SERVICES

Administration for Community Living

Agency Information Collection Activities; Submission for OMB Review; Public Comment Request; of the ACL Generic Clearance for the Collection of Routine Customer Feedback OMB 0985-NEW

AGENCY: Administration for Community Living, HHS.

ACTION: Notice.

SUMMARY: The Administration for Community Living is announcing that the proposed collection of information listed above has been submitted to the Office of Management and Budget (OMB) for review and clearance as required under the Paperwork Reduction Act of 1995. This 30-Day notice collects comments on the information collection requirements related to the ACL Generic Clearance for the Collection of Routine Customer Feedback OMB 0985-NEW.

DATES: Comments on the collection of information must be submitted electronically by 11:59 p.m. (EDT) or postmarked by May 1, 2024.

ADDRESSES: Submit written comments and recommendations for the proposed information collection within 30 days of publication of this notice to www.reginfo.gov/public/do/PRAMain Find the information collection by selecting “Currently under 30-day Review—Open for Public Comments” or by using the search function. By mail to the Office of Information and Regulatory Affairs, OMB, New Executive Office Bldg., 725 17th St. NW, Rm 10235, Washington, DC 20503, Attn: OMB Desk Officer for ACL.

FOR FURTHER INFORMATION CONTACT: Tomakie Washington, Administration for Community Living, Washington, DC 20201, (202) 795-7336 or Tomakie.Washington@acl.hhs.gov.

SUPPLEMENTARY INFORMATION: In compliance with the Paperwork Reduction Act (44 U.S.C. 3506), the Administration for Community Living (ACL) has submitted the following proposed collection of information to OMB for review and clearance. The Administration for Community Living (ACL) at the Department of Health and Human Services (HHS) is requesting a generic clearance for purposes collecting data with a focus on the awareness, understanding, attitudes, preferences, or experiences of customers or other stakeholders relating to existing or future services, products, or communication materials. ACL defines routine customer feedback as information that provides useful insights to improve existing or future service deliveries, products, or communication materials. ACL is requesting approval for customer surveys with the purpose of the collecting data to assist the agency in improving existing or future service deliveries, products, or communication materials; responses are voluntary: the collection does not impose a significant burden on respondents; the collection does not employ statistical methods to have practical utility; and the data results are not publicly shared.

The types of information collection activities will include:

1. Customer Comment Card/Complaint Form

2. Customer Satisfaction Qualitative Surveys

3. Technical Assistance

4. Usability Testing (e.g., Website or Software)

5. Small Discussion Group

6. Focus Group

7. One-time or panel discussion groups

8. Moderated, un-moderated, in-person, and/or remote-usability studies

9. Testing of a survey or other collection to refine questions

10. Post-transaction customer surveys

11. On-line surveys

ACL was created around the fundamental principle that older adults and people of all ages with disabilities should be able to live where they choose, with the people they choose, and with the ability to participate fully in their communities. By funding services and supports provided primarily by networks of community-based organizations, and with investments in research, education, and innovation, ACL helps make this principle a reality for millions of Americans. Integral to this role, ACL will use this mechanism to conduct routine customer feedback for ACL programs.

Comments in Response to the 60-Day Federal Register Notice

A 60-day notice published in the Federal Register at 88 FR 78370 on November 15, 2023. During the 60-day comment period, ACL received five public comments. A portion from two public comments which directly related to the collection of routine customer feedback and ACL's response are listed in the below table. To view unrelated comments in entirety, visit www.reginfo.gov/public/do/PRAMain and select the proposed information collection record.

Commenter | Comment | ACL response
Harris T. Capps, Major US AF, retired | Feedback to ACL should be a part of an HHS, and an ACL quality management program to serve as a powerful tool for monitoring, evaluating, and improving processes, products, and services, ultimately contributing to the organization's overall success. It can provide: a. Performance Evaluation c. Identification of Issues/Problems Transparency and Communication d. Continuous Improvement, especially regarding Customer Satisfaction & Quality of Services, etc. | Thank you for your service. ACL acknowledges receipt of comment. This proposed data collection will collect Routine Customer Feedback related to ACL program data under the below listed topics. Thank you for providing feedback on (1) the accuracy of ACL's estimate of the burden of the proposed collection of information, including the validity of the methodology and assumptions used to determine burden estimates; and (2) ways to enhance the quality, utility, and clarity of the information to be collected.
Rebecca Underwood | How will the participants be selected for small discussion groups, focus groups, and panel discussion groups? | Thank you for providing feedback on your concerns related to the selection of participants in customer satisfaction small discussion groups, focus groups, and panel discussion groups. Please note the terms of usage for this type of information collection requires the collection is targeted to the solicitation of opinions from respondents who have experience with the program services provided or may have experience with the program in the future. Such services as technical assistance, general solicitation, and suggestions for public meeting topics. Terms of usage for a Generic/Fast Track information collection do not cover the same terms applicable to program specific collections of information when data is most likely publicly reported, please visit https://acl.gov/ Data, Research, and Issues tab to view such findings.

Estimated Program Burden

ACL estimates the burden of this collection of information as follows: The annual burden hours (2,521) requested, and the anticipated number of respondents (10,086) are based on the number of potential customer feedback respondents. Over the course of a three-year clearance for this generic information collection, ACL estimates a three-year burden drawdown amount of 7,564.5 burden hours and 30,258 respondents.

Estimated Annualized Burden Table
Type of respondent | Form | Annual number of respondents | Number of responses per respondent | Burden hours per response | Total annual burden hours
ACL Potential Customer or Stakeholder | ACL Generic Clearance for the Collection of Routine Customer Feedback | 10,086 | 1 | .25 | 2,521

Dated: March 26, 2024.
Alison Barkoff,
Principal Deputy Administrator for the Administration for Community Living, performing the delegable duties of the Administrator and the Assistant Secretary for Aging.

[FR Doc. 2024-06789 Filed 3-29-24; 8:45 am]

BILLING CODE 4154-01-P